DEPARTMENT OF ENERGY

Federal Energy Regulatory Commission

[Soda Project No. 20-019, Grace-Cove Project No. 2401-007, Oneida Project No. 472-017]

PacifiCorp—Bear River Projects, Caribou and Franklin Counties, Idaho; Notice

March 13, 2002.

John Ramer, of the Commission's Office of Energy Projects, (202) 219-2833, has been assigned to assist with any questions that may involve the merits of the projects in the above-captioned proceedings. He has been separated from, and will not participate as, advisory staff in these proceedings.

Linwood A. Watson, Jr.,
Deputy Secretary.

[FR Doc. 02-6564 Filed 3-18-02; 8:45 am]

BILLING CODE 6717-01-P